DEPARTMENT OF TRANSPORTATION

Federal Aviation Administration

14 CFR Part 39

[Docket No. FAA-2006-23690; Directorate Identifier 2004-NM-133-AD; Amendment 39-14684; AD 2006-15-04]

RIN 2120-AA64

Airworthiness Directives; Airbus Model A300 B2 and B4 Series Airplanes; and Model A300 B4-600, B4-600R, and F4-600R Series Airplanes, and Model C4-605R Variant F Airplanes (Collectively Called A300-600 Series Airplanes)

AGENCY: Federal Aviation Administration (FAA), Department of Transportation (DOT).

ACTION: Final rule.

SUMMARY: The FAA is superseding two existing airworthiness directives (AD) that apply to certain Airbus Model A300 B2, A300 B4, and A300-600 series airplanes. One AD currently requires an inspection for cracks of the lower outboard flange of gantry No. 4 in the main landing gear (MLG) bay area, and repair if necessary. The other AD currently requires, among other actions, repetitive inspections of the gantry lower flanges, and repair if necessary. This new AD requires new repetitive inspections for cracks in the lower flange of certain gantries, and repair if necessary, which ends the existing inspection requirements. This new AD also provides for optional terminating actions for the new repetitive inspections. This AD results from a report of a large fatigue crack along the outboard flange of beam No. 4 and a subsequent determination that existing inspections are inadequate. We are issuing this AD to detect and correct fatigue cracks in the lower flanges of gantries 1 through 5 inclusive in the MLG bay area, which could result in reduced structural integrity of the fuselage, and consequent rapid decompression of the airplane.

DATES: This AD becomes effective August 24, 2006.

The Director of the Federal Register approved the incorporation by reference of Airbus Service Bulletin A300-53-0379, Revision 01, excluding Appendix 01, dated October 4, 2005; and Airbus Service Bulletin A300-53-6152, Revision 01, excluding Appendix 01, dated October 4, 2005; listed in the AD as of August 24, 2006.

On October 19, 2004 (69 FR 55329, September 14, 2004), the Director of the Federal Register approved the incorporation by reference of Airbus Service Bulletin A300-53-6128, excluding Appendix 01, dated March 5, 2001.

On January 22, 2004 (69 FR 867, January 7, 2004), the Director of the Federal Register approved the incorporation by reference of Airbus All Operators Telex A300-53A0371, Revision 01, dated September 10, 2003; and Airbus All Operators Telex A300-53A6145, Revision 01, dated September 10, 2003.

On July 30, 1998 (63 FR 34589, June 25, 1998), the Director of the Federal Register approved the incorporation by reference of Airbus All Operators Telex (AOT) 53-11, dated October 13, 1997.

ADDRESSES: You may examine the AD docket on the Internet at http://dms.dot.gov or in person at the Docket Management Facility, U.S. Department of Transportation, 400 Seventh Street SW., Nassif Building, Room PL-401, Washington, DC.

Contact Airbus, 1 Rond Point Maurice Bellonte, 31707 Blagnac Cedex, France, for service information identified in this AD.

FOR FURTHER INFORMATION CONTACT: Thomas Stafford, Aerospace Engineer, International Branch, ANM-116, FAA, Transport Airplane Directorate, 1601 Lind Avenue, SW., Renton, Washington 98055-4056; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a supplemental notice of proposed rulemaking (NPRM) to amend 14 CFR part 39 to include an AD that supersedes AD 2003-26-10, amendment 39-13408 (69 FR 867, January 7, 2004), and AD 2004-18-13, amendment 39-13792 (69 FR 55329, dated September 14, 2004). The existing ADs apply to certain Airbus Model A300 B2 and A300 B4 series airplanes, and Model A300 B4-600, B4-600R, and F4-600R series airplanes, and Model C4-605R Variant F airplanes (collectively called A300-600 series airplanes). That supplemental NPRM was published in the Federal Register on May 17, 2006 (71 FR 28615). That supplemental NPRM proposed to continue to require an inspection for cracks of the lower outboard flange of gantry No. 4 in the main landing gear (MLG) bay area, and repair if necessary. That supplemental NPRM also proposed to continue to require repetitive inspections of the gantry lower flanges, and repair if necessary. In addition, that supplemental NPRM proposed to require new repetitive inspections for cracks in the lower flange of certain gantries, and repair if necessary, which ends the existing inspection requirements. That supplemental NPRM also proposed optional terminating actions for the new repetitive inspections. That supplemental also revised the original NPRM by including additional airplanes that were excluded from the applicability.

Comments

We provided the public the opportunity to participate in the development of this AD. We have considered the comment that has been received on the supplemental NPRM.

Request To Refer to Latest Service Bulletin

Airbus states that it has issued Service Bulletins A300-53-0360, Revision 01, dated May 31, 2006; and A300-53-6132, Revision 01, dated June 7, 2006; whose original issues are listed in paragraph (m)(2) of the supplemental NPRM.

We infer that Airbus is requesting that Revision 01 of Service Bulletins A300-53-0360 and A300-53-6132 be referred to in paragraph (m)(2) of the AD. We agree. We have reviewed Revision 01 of both service bulletins. Revision 01 of both service bulletins revises three illustrations. The reinforcement procedures in Revision 01 of both service bulletins are identical to that in the original issues of the service bulletins. No additional work is required for airplanes modified in accordance with the original issues of the service bulletins. Therefore, we have revised paragraph (m)(2) of this AD to refer to Revision 01 of both service bulletins and added a new paragraph (p) to the AD (subsequent paragraphs have been redesignated) to give credit for accomplishing the original issues of both service bulletins.

Explanation of Change Made to the Supplemental NPRM

Paragraphs (g), (i)(4), and (n) of the supplemental NPRM specify making repairs using a method approved by either the FAA or the Direction Générale de l'Aviation Civile (DGAC) (or its delegated agent). The European Aviation Safety Agency (EASA) has assumed responsibility for the airplane modes that would be subject to this AD. Therefore, we have revised those paragraphs of this AD to specify making repairs using a method approved by either the FAA, the DGAC (or its delegated agent), or the EASA (or its delegated agent).

Conclusion

We have carefully reviewed the available data, including the comment that has been received, and determined that air safety and the public interest require adopting the AD with the changes described previously. We have determined that these changes will neither increase the economic burden on any operator nor increase the scope of the AD.

Costs of Compliance

This AD will affect about 165 airplanes of U.S. registry. The following table provides the estimated costs for U.S. operators to comply with this AD. Not all actions must be completed on all airplanes.

Estimated Costs for Required Actions
Action | Work hours | Average labor rate per hour | Parts | Cost per airplane | Number of U.S.-registered airplanes | Fleet cost
One-time inspection (required by AD 2003-26-10) | 1 | $80 | None | $80 | 23 | $1,840.
One-time inspection (required by AD 2004-18-13) | 4 | 80 | None | $320 | 43 | $13,760.
Repetitive inspections (required by AD 2004-18-13) | 12 | 80 | None | $960, per inspection cycle | 78 | $74,880, per inspection cycle.
Repetitive inspections (new proposed actions) | 16 | 80 | None | $1,280, per inspection cycle | 78 | $99,840, per inspection cycle.

Estimated Costs for Optional Actions
Optional action | Work hours | Average labor rate per hour | Parts | Cost per airplane | Number of U.S.-registered airplanes
Reinforcement specified in Airbus Service Bulletin A300-53-0380, dated August 5, 2005 | 807 | $80 | Between $87,100 and $121,560 depending on kit purchased | Between $151,660 and $186,120 depending on airplane configuration | 23
Reinforcement specified in Airbus Service Bulletin A300-53-6153, dated August 24, 2005 | 807 | 80 | Between $82,460 and $87,070 depending on kit purchased | Between $147,020 and $151,630 depending on airplane configuration | 120
Reinforcement specified in Airbus Service Bulletin A300-53-0360, Revision 01, dated May 31, 2002 | Between 24 and 128 depending on airplane configuration | 80 | Between $250 and $1,000 depending on kit purchased | Between $2,170 and $11,240 depending on airplane configuration | 23
Reinforcement specified in Airbus Service Bulletin A300-53-6132, Revision 01, dated June 7, 2006 | 109 | 80 | Between $260 and $950 depending on kit purchased | Between $8,980 and $9,670 depending on airplane configuration | 120

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendments 39-13408 (69 FR 867, January 7, 2004) and 39-13792 (69 FR 55329, September 14, 2004, and by adding the following new airworthiness directive (AD):

2006-15-04 Airbus: Amendment 39-14684. Docket No. FAA-2006-23690; Directorate Identifier 2004-NM-133-AD.

Effective Date

(a) This AD becomes effective August 24, 2006.

(b) This AD supersedes ADs 2003-26-10 and 2004-18-13.

Applicability

(c) This AD applies to Airbus airplanes identified in Table 1 of this AD, certificated in any category.

Table 1.—Applicability
Affected Airbus Airplanes
(1) All Model A300 B2-1A, B2-1C, B2K-3C, and B2-203 airplanes.
(2) All Model A300 B4-2C, B4-103, and B4-203 airplanes.
(3) All Model A300 B4-601, B4-603, B4-620, and B4-622 airplanes.
(4) All Model A300 B4-605R and B4-622R airplanes.
(5) All Model A300 F4-605R and F4-622R airplanes.
(6) All Model A300 C4-605R Variant F airplanes.

Unsafe Condition

(d) This AD results from a report of a large fatigue crack along the outboard flange of beam No. 4. We are issuing this AD to detect and correct fatigue cracks in the lower flanges of the left and right gantries 1 through 5 inclusive in the main landing gear (MLG) bay area, which could result in reduced structural integrity of the fuselage, and consequent rapid decompression of the airplane.

Compliance

(e) You are responsible for having the actions required by this AD performed within the compliance times specified, unless the actions have already been done.

Restatement of Requirements of AD 2003-26-10

One-Time Inspection

(f) For airplanes on which Airbus Modification 10147 has not been done: At the later of the times specified in paragraphs (f)(1) and (f)(2) of this AD: Do a one-time detailed inspection for cracking of the lower outboard flange of gantry No. 4 in the MLG bay area per paragraph 4.2.1 of Airbus All Operators Telex (AOT) A300-53A0371, Revision 01 (for Model A300 B2 and B4 series airplanes); or AOT A300-53A6145, Revision 01 (for Model A300-600 series airplanes); both dated September 10, 2003; as applicable.

(1) Before the accumulation of 8,000 total flight cycles since the date of issuance of the original Airworthiness Certificate or the date of issuance of the Export Certificate of Airworthiness, whichever is first.

(2) Within 30 days after January 22, 2004 (the effective date AD 2003-26-10).

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Repair

(g) Repair any cracking found during the inspection required by paragraph (f) of this AD before further flight, per a method approved by either the Manager, International Branch, ANM-116, Transport Airplane Directorate, FAA; the Direction Générale de l'Aviation Civile (DGAC) (or its delegated agent); or the European Aviation Safety Agency (EASA) (or its delegate agent).

Restatement of Requirements of AD 2004-18-13

One-Time Inspection and Corrective Action

(h) For Model A300 B2-1A, B2-1C, B2K-3C, and B2-203 airplanes, and Model A300 B4-2C, B4-103, and B4-203 airplanes, on which Airbus Modification 3474 has been done: Prior to the accumulation of 16,300 total flight cycles, or within 500 flight cycles after July 30, 1998 (the effective date of AD 98-13-37), whichever occurs later, perform a one-time ultrasonic inspection for cracking of the gantry lower flanges in the MLG bay area, in accordance with Airbus AOT 53-11, dated October 13, 1997.

(1) If any cracking is detected, prior to further flight, repair in accordance with the AOT.

(2) If no cracking is detected, no further action is required by this paragraph.

Repetitive Inspections and Corrective Actions

(i) For Model A300 B4-601, B4-603, B4-605R, B4-620, B4-622R, C4-605R Variant F airplanes, and F4-605R airplanes, on which Airbus Modification 12169 has not been done in production: Perform the requirements of paragraphs (i)(1), (i)(2), (i)(3), and (i)(4) of this AD, in accordance with Airbus Service Bulletin A300-53-6128, dated March 5, 2001.

(1) At the later of the times specified in paragraphs (i)(1)(i) and (i)(1)(ii) of this AD, perform initial ultrasonic inspections or high-frequency eddy current (HFEC) inspections for cracks of the lower flanges of gantries 3, 4, and 5 between fuselage frames FR47 and FR54, in accordance with the Accomplishment Instructions, including the Synoptic Chart contained in Figure 2, sheets 1 through 5 inclusive, of the service bulletin.

(i) In accordance with the thresholds specified in the Synoptic Chart contained in Figure 2, sheets 1 through 5 inclusive, of the service bulletin; or

(ii) Within 200 flight cycles after October 19, 2004 (the effective date AD 2004-18-13).

(2) Perform repetitive ultrasonic inspections or high-frequency eddy current inspections for cracks of the lower flanges of gantries 3, 4, and 5 between fuselage frames FR47 and FR54, in accordance with the thresholds and Accomplishment Instructions, including the Synoptic Chart contained in Figure 2, sheets 1 through 5 inclusive, of the service bulletin.

(3) Perform repairs and reinforcements, in accordance with the thresholds and the Accomplishment Instructions, including the Synoptic Chart contained in Figure 2, sheets 1 through 5 inclusive, of the service bulletin, except as specified in paragraph (i)(4) of this AD.

(4) If a new crack is found during any action required by paragraph (i)(1), (i)(2) or (i)(3) of this AD and the Synoptic Chart contained in Figure 2, sheets 1 through 5 inclusive, of the service bulletin specifies to contact Airbus for appropriate action: Prior to further flight, repair per a method approved by the Manager, International Branch, ANM-116; the DGAC (or its delegated agent); or the European Aviation Safety Agency (EASA) (or its delegate agent).

Credit for Inspections Accomplished in Accordance With AOT

(j) Any inspection accomplished before October 19, 2004, in accordance with Airbus AOT 53-11, dated October 13, 1997, is acceptable for compliance with the corresponding inspection specified in paragraph (i)(1) of this AD, for that inspection area only. Operators must do the applicable inspections in paragraph (i)(1) of this AD for the remaining inspection areas.

New Requirements of This AD

Repetitive Inspections

(k) At the later of the applicable times specified in the “Threshold (FC)” and “Grace Period” columns of Tables 1 and 2 in paragraph 1.E of the applicable service bulletin in Table 2 of this AD: Do an ultrasonic inspection or HFEC inspection, including rework of the pressure diaphragm, for cracks in the lower flanges of the left and right gantries 1 through 5 inclusive between FR47 and FR54, in accordance with the Accomplishment Instructions of the applicable service bulletin in Table 2 of this AD. Repeat the inspection at the applicable times specified in the “Interval (FC)” column of Tables 1 and 2 in paragraph 1.E of the applicable service bulletin in Table 2 of this AD. Accomplishment of the initial inspection ends the inspections required by paragraphs (f), (h), and (i) of this AD.

Table 2.—Service Bulletins
Airbus Service Bulletin— | For airplanes identified in—
(1) A300-53-0379, Revision 01, dated October 4, 2005 | Paragraphs (c)(1) and (c)(2) of this AD inclusive.
(2) A300-53-6152, Revision 01, dated October 4, 2005 | Paragraphs (c)(3) through (c)(6) of this AD inclusive.

Corrective Action

(l) If any crack is detected during any ultrasonic or HFEC inspection required by paragraph (k) of this AD, before further flight, repair the crack in accordance with the Accomplishment Instructions of the applicable service bulletin in Table 2 of this AD, except as provided by paragraph (n) of this AD.

Optional Terminating Actions

(m) Accomplishment of the actions specified in Table 3 of this AD ends the repetitive inspections required by paragraph (k) of this AD.

Table 3.—Optional Termianting Actions
Before or at the same time with— | Reinforce— | By doing all the actions in accordance with the Accomplishment Instructions of— | For airplanes identified in—
(1) The actions required by paragraph (k) of this AD and the action specified in paragraph (m)(2) of this AD | The flanges of the left and right portals 1 through 5 inclusive between FR47 and FR54 of the landing gear, including a rotating probe inspection for cracks of holes and repair if necessary | Airbus Service Bulletin A300-53-0380, dated August 5, 2005, except as provided by paragraph (n) of this AD | Paragraphs (c)(1) and (c)(2) of this AD inclusive.
|  | Airbus Service Bulletin A300-53-6153, dated August 24, 2005, except as provided by paragraph (n) of this AD | Paragraphs (c)(3) through (c)(6) of this AD inclusive.
(2) The actions required by paragraph (k) of this AD | Portals 3, 4, and 5 of the plates/skin | Airbus Service Bulletin A300-53-0360, Revision 01, dated May 31, 2006, except as provided by paragraph (n) of this AD | Paragraphs (c)(1) and (c)(2) of this AD inclusive.
|  | Airbus Service Bulletin A300-53-6132, Revision 01, dated June 7, 2006, except as provided by paragraph (n) of this AD | Paragraphs (c)(3) through (c)(6) of this AD inclusive.

Repair of Certain Cracks

(n) Where the applicable service bulletin recommends contacting Airbus for appropriate action: Before further flight, repair the crack in accordance with a method approved by the Manager, International Branch, ANM-116; the DGAC (or its delegated agent); or the European Aviation Safety Agency (EASA) (or its delegate agent).

Credit for Original Service Bulletins

(o) Accomplishing the inspections and repair before the effective date of this AD in accordance with Airbus Service Bulletin A300-53-0379, dated May 9, 2005; or Airbus Service Bulletin A300-53-6152, dated May 9, 2005; as applicable; is acceptable for compliance with the corresponding requirements of paragraphs (k) and (l) of this AD.

(p) Accomplishing the reinforcement before the effective date of this AD in accordance with Airbus Service Bulletin A300-53-0360, dated May 3, 2002; and Airbus Service Bulletin A300-53-6132, dated February 5, 2002; is acceptable for compliance with the corresponding requirements of paragraph (m)(2) of this AD.

No Inspection Report

(q) Although the service bulletins in this AD specify to submit certain information to the manufacturer, this AD does not include that requirement.

Alternative Methods of Compliance (AMOCs)

(r)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(s) French airworthiness directive F-2005-091 R1, issued September 28, 2005, also addresses the subject of this AD.

Material Incorporated by Reference

(t) You must use the applicable service bulletins identified in Table 4 of this AD to perform the actions that are required by this AD, unless the AD specifies otherwise.

(1) The Director of the Federal Register approved the incorporation by reference of the documents in Table 5 of this AD in accordance with 5 U.S.C. 552(a) and 1 CFR part 51.

(2) On October 19, 2004 (69 FR 55329, September 14, 2004), the Director of the Federal Register approved the incorporation by reference of Airbus Service Bulletin A300-53-6128, excluding Appendix 01, dated March 5, 2001.

(3) On January 22, 2004 (69 FR 867, January 7, 2004), the Director of the Federal Register approved the incorporation by reference of Airbus All Operators Telex A300-53A0371, Revision 01, dated September 10, 2003; and Airbus All Operators Telex A300-53A6145, Revision 01, dated September 10, 2003.

(4) On July 30, 1998 (63 FR 34589, June 25, 1998), the Director of the Federal Register approved the incorporation by reference of Airbus All Operators Telex (AOT) 53-11, dated October 13, 1997.

(5) Contact Airbus, 1 Rond Point Maurice Bellonte, 31707 Blagnac Cedex, France, for a copy of this service information. You may review copies at the Docket Management Facility, U.S. Department of Transportation, 400 Seventh Street, SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 4.—All Material Incorporated by Reference
Service Bulletin | Revision level | Date
Airbus All Operators Telex A300-53A0371 | 01 | September 10, 2003.
Airbus All Operators Telex A300-53A6145 | 01 | September 10, 2003.
Airbus All Operators Telex (AOT) 53-11 | Original | October 13, 1997.
Airbus Service Bulletin A300-53-0379, excluding Appendix 01 | 01 | October 4, 2005.
Airbus Service Bulletin A300-53-6128, excluding Appendix 01 | Original | March 5, 2001.
Airbus Service Bulletin A300-53-6152, excluding Appendix 01 | 01 | October 4, 2005.

Table 5.—New Material Incorporated by Reference
Service Bulletin | Revision level | Date
Airbus Service Bulletin A300-53-0379, excluding Appendix 01 | 01 | October 4, 2005.
Airbus Service Bulletin A300-53-6152, excluding Appendix 01 | 01 | October 4, 2005.

Issued in Renton, Washington, on July 7, 2006.
Ali Bahrami,
Manager, Transport Airplane Directorate, Aircraft Certification Service.

[FR Doc. E6-11412 Filed 7-19-06; 8:45 am]

BILLING CODE 4910-13-P